DEPARTMENT OF THE INTERIOR

National Park Service

[NPS-WASO-NRNHL-23545; PPWOCRADI0, PCU00RP14.R50000]

Request for Comments on a Draft of Updated National Register Bulletin: Identifying, Evaluating, and Documenting Traditional Cultural Places (Draft TCP Bulletin)

AGENCY: National Park Service, Department of the Interior.

ACTION: Request for comments.

SUMMARY: The National Park Service (NPS) is soliciting written comments from its Tribal, national, State, and local historic preservation partners, NPS regional offices and parks, other Federal agencies, and the public regarding the Draft TCP Bulletin.

DATES: Comments should be submitted by March 25, 2024.

ADDRESSES: A Portable Document Format (PDF) copy of the Draft TCP Bulletin may be accessed at: https://parkplanning.nps.gov/TCPBulletin.

A printed copy of the Draft TCP Bulletin is available upon request.

Comments may be submitted via email to nr_tcp@nps.gov; via the project website at https://parkplanning.nps.gov/TCPBulletin; or by U.S. mail or alternative carrier to Sherry A. Frear, Chief and Deputy Keeper, National Register of Historic Places/National Historic Landmarks Program, 1849 C Street NW, MS 7228, Washington, DC 20240.

FOR FURTHER INFORMATION CONTACT: Sherry A. Frear, Chief and Deputy Keeper, National Register of Historic Places/National Historic Landmarks Program, 1849 C Street NW, MS 7228, Washington, DC 20240, sherry_frear@nps.gov, 202-913-3763.

SUPPLEMENTARY INFORMATION: The NPS is the Federal agency tasked by the Secretary of the Interior with administering the National Register of Historic Places (National Register). The revision and reissue of National Register Bulletin 38: Guidelines for Evaluating and Documenting Traditional Cultural Places (TCP Bulletin) is in accordance with the authority provided by the National Preservation Act of 1966 (54 U. S. C. 300101, et seq.)(NHPA), and National Register Program regulations (36 CFR part 60). Completion of the project will significantly assist the Federal Advisory Council on Historic Preservation; Native Americans, Native Hawaiians, Native Alaskans; Federal agencies; State and Tribal Historic Preservation Officers; national, State, and local preservation organizations; preservation professionals; and the general public in the implementation of 36 CFR part 60, 36 CFR part 800, and environmental reviews pursuant to 54 U.S.C. 306107 and 306108, and 42 U.S.C. 4321, et seq.

With the release of the TCP Bulletin in 1990, the NPS provided guidance for evaluating and documenting places for inclusion in the National Register of Historic Places (National Register) for their historic relationships with traditional cultural communities. The TCP Bulletin was revised and reissued in 1992 to address changes in the NHPA providing that places of traditional religious and cultural importance to Native American Tribes or Native Hawaiian Organizations may be included in the National Register. It was revised and reissued again in 1998 to clarify that Traditional Cultural Places (TCPs) are not a new property type nor an additional level of significance. The TCP Bulletin as published in 1990, and revised in 1992 and 1998, has been an essential resource for evaluating and documenting TCPs. Over the past decades, there have been requests to the NPS for further clarification and expansion of this guidance from Native American Tribes, Native Hawaiian Organizations, State and Tribal Historic Preservation Offices, Federal agencies, preservation professionals, and preservation organizations.

From 2011 to 2013, the NPS' National Register Program in Washington, DC, sponsored, attended, and participated in numerous meetings and workshops to solicit suggestions from the nation's preservation community on how to improve the guidance provided by the TCP Bulletin. As a result of this effort, the NPS received many verbal, written, and email comments about the TCP Bulletin from Native American Tribes, Native Hawaiian Organizations, State and Tribal Historic Preservation Officers, Federal agencies, national and regional preservation organizations, and preservation professionals throughout the country. The purpose of this effort was to ensure that an updated edition of the TCP Bulletin addressed the needs of the preservation community to the greatest possible extent. A draft document was prepared and readied in 2017 for issuance for comment, but was not released for comment.

In 2021, the NPS revived its efforts to revise and reissue the TCP Bulletin. The 2017 draft was further revised and titled National Register Bulletin: Identifying, Evaluating, and Documenting Traditional Cultural Places. In October 2022 the National Register Bulletin: Identifying, Evaluating, and Documenting Traditional Cultural Places (Draft TCP Bulletin) was publicly shared through the Draft TCP Bulletin project website at https://parkplanning.nps.gov/TCPBulletin, from which the Draft TCP Bulletin could be downloaded and comments could be uploaded. As noted on the project web page, comments could also be submitted to the Draft TCP Bulletin Outlook email box at nr_tcp@nps.gov.

From January through April 2023 the NPS conducted eleven (11) webinars directed to State and Tribal Historic Preservation Officers, Federal agencies, national and regional preservation organizations, preservation professionals, and the public, to present the Draft TCP Bulletin content, and answer questions regarding the revisions, and the revision and reissuance process. The webinars were attended by 402 individuals from 185 organizations. The NPS conducted government-to-government consultation through five (5) webinars, to present the Draft TCP Bulletin content, receive comments, and answer questions regarding the revisions, and the revision and reissuance process: four (4) for Native American Tribes; and one (1) for Native Hawaiian Organizations. These Tribal consultations reached individuals from 42 Tribes. The NPS further conducted consultation through one (1) webinar for Alaska Native Corporations.

The Draft TCP Bulletin was released for comment from November 1, 2022, through April 30, 2023. Eighty-five (85) submissions were received via letter, email, and the project website, totaling approximately 900 comments.

From May through October 2023 the NPS reviewed all written comments and revised the Draft TCP Bulletin accordingly, as follows:

Defined “living community” (pp. 22-23).

Clarified the difference between “family,” “extended family,” and “living community” (p. 22).

Expanded the discussion of cultural beliefs, customs, and practices (pp. 23-25).

Expanded the discussion of community history and community identity (pp. 25-26).

Clarified required TCP characteristics (p. 27).

Added an analysis of a listed TCP nomination (pp. 30-32).

Added an analysis of an unsuccessful TCP request for determination of eligibility (pp. 32-33).

Moved “Section III. Terminology” to a new subsection within Section II “What Is a Traditional Cultural Place,” titled “Notes on Terminology” (pp. 33-37).

Added discussion of adequacy of documentation submitted in a nomination, and the role of the Keeper in evaluating that documentation (p. 37).

Added discussion regarding the listing animals (pp. 12, 53).

Revised language regarding plants and animals as character-defining features (p. 53).

Corrected language regarding the reach of Criterion D to ethnographic, archeological, sociological, folkloric, or other studies (p. 66).

Added example to illustrate that information potential under Criterion D is not exclusive to archaeological data (p. 70).

Expanded guidance regarding assessing the level of significance for a place (pp. 105-106).

Clarified confidentiality issues and protections (pp. 39-45, 98-100).

Additional information added, old example removed, and new example added regarding determining a place's boundary (pp. 113-116).

Clarified definitions as used within the Draft TCP Bulletin for “Native Americans” and “Native American Tribe” (p. 125).

Technical edits correcting grammar and punctuation, and for clarity and readability, were made throughout.

(Authority: 54 U.S.C. 302103; 36 CFR 60.4)

Sherry A. Frear,
Chief and Deputy Keeper, National Register of Historic Places and National Historic Landmarks Program.

[FR Doc. 2024-01401 Filed 1-24-24; 8:45 am]

BILLING CODE 4312-52-P